DEPARTMENT OF ENERGY

Federal Energy Regulatory Commission

[Project No. 2614-038]

City of Hamilton, Ohio, American Municipal Power, Inc.; Notice of Application for Partial Transfer of License and Soliciting Comments, Motions To Intervene, and Protests

On April 22, 2015, the City of Hamilton, Ohio (City or transferor) and American Municipal Power, Inc. (AMP or transferee) filed an application to partially transfer the license for the Greenup Project No. 2614, located on the Ohio River in Scioto County, Ohio. The application requests to partially transfer the license for the Greenup Project to add AMP as a co-licensee.

The transferor and transferee seek Commission approval to a partial transfer of the license for the Greenup Project from the City, as sole licensee, to the City and AMP, as co-licensees.

Applicant Contacts: For Transferor: Mr. Joshua Smith, City Manager, City of Hamilton, 345 High Street, 7th Floor, Hamilton, OH 45011-6071, Email: smithja@cihamilton.oh.us; Mr. Alan I. Robbins, Esq., Jennings Strouss & Salmon, PLC, 1350 I Street NW., Suite 810, Washington, DC 20005, Email: arobbins@jsslaw.com. For Transferee: Mr. Marc S. Gerken, P.E., President and CEO, American Municipal Power, Inc., 1111 Schrock Road, Suite 100, Columbus, OH 43229, Email: mgerken@amppartners.org; Mr. Phil E. Meier, Vice President, Hydro Development and Operations, American Municipal Power, Inc., 1111 Schrock Road, Suite 100, Columbus, OH 43229, Email: pmeier@amppartners.org; and Mr. John W. Bentine, Esq., Sr. Vice President and General Counsel, Email: jbentine@amppartners.org, American Municipal Power, Inc., 1111 Schrock Road, Suite 100, Columbus, OH 43229

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2614-038.

Dated: April 28, 2015.
Kimberly D. Bose,
Secretary.

[FR Doc. 2015-11412 Filed 5-11-15; 8:45 am]

BILLING CODE 6717-01-P